DEPARTMENT OF THE INTERIOR

Fish and Wildlife Service

[FWS-R4-R-2013-N058; FXRS12650400000S3-123-FF04R02000]

Culebra National Wildlife Refuge, PR; Final Comprehensive Conservation Plan and Finding of No Significant Impact for the Environmental Assessment

AGENCY: Fish and Wildlife Service, Interior.

ACTION: Notice of availability.

SUMMARY: We, the Fish and Wildlife Service (Service), announce the availability of the final comprehensive conservation plan and finding of no significant impact for the environmental assessment (Final CCP/FONSI) for Culebra National Wildlife Refuge (NWR) in the municipality of Culebra, Puerto Rico. In the Final CCP/FONSI, we describe how we will manage this refuge for the next 15 years.

ADDRESSES: You may obtain a copy of the Final CCP/FONSI by writing to: Ms. Ana Román, via U.S. mail at P.O. Box 510, Boquerón, PR 00622. Alternatively, you may download the document from our Internet Site at http://southeast.fws.gov/planning under “Final Documents.”

FOR FURTHER INFORMATION CONTACT: Ms. Ana Román, at 787/851-7258 (telephone).

SUPPLEMENTARY INFORMATION:

Introduction

With this notice, we finalize the CCP process for Culebra NWR. We started the process through a notice in the Federal Register on December 19, 2008 (73 FR 77827). For more about the refuge and planning process, please see that notice.

Culebra NWR is located within the municipality of Culebra, Puerto Rico, and consists of several units on the main island of Culebra and numerous small islands surrounding Culebra.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft Comprehensive Conservation Plan and Environmental Assessment (Draft CCP/EA) available for a 30-day public review and comment period via a Federal Register notice on July 11, 2012 (77 FR 40895). We received comments on the Draft CCP/EA from two Federal agencies, nine non-governmental organizations, and eight members of the general public. Some of the comments we received dealt with the following: (1) Controlling access and utilization of Culebrita beaches; (2) ensuring a consistent policy for special use permits; (3) clarifying all unresolved boundary issues; (4) developing plans to repair the Observation Point at Punta Flamenco; (5) increasing funding for sea turtle projects; (6) controlling or eliminating invasive species; (7) developing hiking trails; and (8) permitting the development of renewable energy projects (i.e., particularly wind energy) on the refuge.

CCP Alternatives, Including Our Preferred Alternative

We developed three alternatives for managing the refuge (Alternatives A, B, and C), with Alternative C selected for implementation. This alternative expands both wildlife and habitat management and public use activities.

The preferred alternative provides for expanded seasonal surveys to determine seabird abundance, research on nesting success, manipulation of vegetation to improve nesting habitat, and control of invasive predators.

We will also continue surveys and protection of sea turtles, develop and implement annual surveys for resident and migratory birds, and establish additional populations of two species of listed plants—Pepperomia wheelerii and Leptocereus grantianus.

This management action also calls for restoring hydrology to areas of degraded mangrove habitat and restoring dry forest through selective invasive species removal and planting of propagated trees. We will also intensify efforts at invasive species control and eradication and pursue habitat restoration on offshore cays.

Within 5 years of the date of the Final CCP/FONSI, we will clearly delineate all refuge boundaries, work to resolve boundary issues, and pursue opportunities for boundary expansion through acquisitions from willing sellers. We will also complete and begin to implement a cultural resources management plan.

We will maintain our current schedule of being open to the public during daylight hours only. Working with the Army Corps of Engineers to determine safety of areas cleared of unexploded ordnance, we will evaluate the potential for opening additional areas to the public, considering both safety and biological factors. We will continue to permit water taxis under special use permit for access to cays. We will also develop partnerships to restore and reopen the Observation Post for environmental research and/or education purposes.

We will continue to provide for opportunistic wildlife observation and photography opportunities. We will develop additional public use facilities, such as trails, towers, boardwalks, and blinds, to increase opportunities for wildlife observation and photography. We will also develop environmental education and interpretation programs and materials (e.g., curriculum, teacher training) to be used both on and off the refuge.

Based on the availability of funding, we will add the following positions: Public use specialist, biologist, one full-time and one part-time biological technician, and maintenance worker.

This management action provides for the maintenance of all current equipment and facilities, including two boats and the office and residence buildings. It also provides for the development and maintenance of additional trails, towers, boardwalks, blinds, and the construction of a new headquarters/visitor contact station.

We will facilitate the formation of a friends group, increase cooperation with partners in habitat and wildlife management and public use, and establish formal agreements.

Contingent upon adding a public use specialist, we will develop and begin to implement a communication's plan.

Authority

This notice is published under the authority of the National Wildlife Refuge System Improvement Act of 1997 (16 U.S.C. 668dd et seq.).

Dated: April 25, 2013.
Mike Oetker,
Acting Regional Director.

[FR Doc. 2013-20234 Filed 8-19-13; 8:45 am]

BILLING CODE 4310-55-P